DEPARTMENT OF ENERGY

Federal Energy Regulatory Commission

[Project No. 12388-000]

Notice of Application Accepted for Filing and Soliciting Comments, Motions To Intervene, and Protests

November 8, 2002.

Correction

In notice document 02-29142 beginning on page 69523 in the issue of Monday, November 18, 2002, make the following correction:

On page 69523, in the third column, the docket number is corrected to read as set forth above.

[FR Doc. C2-29142 Filed 11-22-02; 8:45 am]

BILLING CODE 1505-01-D

NUCLEAR REGULATORY COMMISSION

10 CFR Part 72

RIN 3150-AH05

List of Approved Spent Fuel Storage Casks: VSC-24 Revision

Correction

In rule document 02-29485 beginning on page 69987 in the issue of Wednesday, November 20, 2002 make the following correction:

On page 69987, in the first column, under DATES, in the second line “February 3, 2002” should read, “February 3, 2003”.

[FR Doc. C2-29485 Filed 11-22-02; 8:45 am]

BILLING CODE 1505-01-D

DEPARTMENT OF TRANSPORTATION

Federal Aviation Administration

14 CFR Part 39

[Docket No. 2002-NE-31-AD; Amendment 39-12950; AD 2002-23-06]

RIN 2120-AA64

Airworthiness Directive; Textron Lycoming AEIO-540, IO-540, LTIO-540, O-540, and TIO-540 Series Reciprocating Engines

Correction

In rule document 02-29003 beginning on page 68932 in the issue of Thursday, November 14, 2002, make the following correction:

§39.13 [Corrected]

On page 68933, in the third column, in § 39.13, after amendatory instruction 2., the item directly beneath should appear as follows: “• 2002-23-06 Textron Lycoming:”.

[FR Doc. C2-29003 Filed 11-22-02; 8:45 am]

BILLING CODE 1505-01-D

DEPARTMENT OF TRANSPORTATION

Federal Aviation Administration

14 CFR Part 71

[Airspace Docket No. 02-ACE-11]

Amendment to Class E Airspace; Ulysses, KS

Correction

In rule document 02-28831 beginning on page 68757 in the issue of Wednesday, November 13, 2002, make the following correction:

§71.1 [Corrected]

On page 68758, in the second column, in §71.1, under the heading ACE KS E5 Ulysses, KS [Revised], in the first paragraph, in the first line, “upward toward” should read, “upward”.

[FR Doc. C2-28831 Filed 11-22-02; 8:45 am]

BILLING CODE 1505-01-D